DEPARTMENT OF ENERGY

Federal Energy Regulatory Commission

[Project No. 2634-007]

GNE, LLC; Notice of Availability of Final Environmental Assessment

June 13, 2002.

In accordance with the National Environmental Policy Act of 1969 and the Federal Energy Regulatory Commission's (Commission) regulations, 18 CFR part 380 (Order No. 486, 52 FR 47897), the Office of Energy Projects has reviewed the application for a new license for the existing and operating Storage Project, located on Ragged Steam, Caucomgomoc Stream, West Branch and South Branch of the Penobscot River in the Counties of Somerset and Piscataquis, Maine and has prepared a Final Environmental Assessment (EA) for the project.

Copies of the EA are available for review in the Public Reference Branch, Room 2-A, of the Commission's offices at 888 First Street, NE., Washington, DC 20426. The EA may also be viewed on the web at http://www.ferc.gov using the “RIMS” link, select “Docket #” and follow the instructions. Please call (202) 208-2222 for assistance.

For further information, contact John Costello at (202) 219-2914 or john.costello@ferc.gov.

Linwood A. Watson, Jr.,
Deputy Secretary.

[FR Doc. 02-15403 Filed 6-18-02; 8:45 am]

BILLING CODE 6717-01-P